SECURITIES AND EXCHANGE COMMISSION

[SEC File No. 270-205, OMB Control No. 3235-0194]

Submission for OMB Review; Comment Request; Extension: Rule 24b-1

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 24b-1 (17 CFR 240.24b-1) under the Securities Exchange Act of 1934 (15 U.S.C. 78a et seq.).

Rule 24b-1 requires a national securities exchange to keep and make available for public inspection a copy of its registration statement and exhibits filed with the Commission, including any amendments thereto.

There are 24 national securities exchanges that spend approximately one-half hour each per year complying with this rule, for an aggregate total time burden of approximately 12 hours per year. The staff estimates that the average cost per respondent is approximately $82.45 per year ($17.67 for copying plus $64.78 for storage), resulting in a total cost burden for all respondents of approximately $1,979 per year.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by August 29, 2024 to (i) www.reginfo.gov/public/do/PRAMain and (ii) Austin Gerig, Director/Chief Data Officer, Securities and Exchange Commission, c/o Oluwaseun Ajayi, 100 F Street NE, Washington, DC 20549, or by sending an email to: PRA_Mailbox@sec.gov.

Dated: July 24, 2024.
Sherry R. Haywood,
Assistant Secretary.

[FR Doc. 2024-16668 Filed 7-29-24; 8:45 am]

BILLING CODE 8011-01-P